DEPARTMENT OF DEFENSE

GENERAL SERVICES ADMINISTRATION

NATIONAL AERONAUTICS AND SPACE ADMINISTRATION

48 CFR Parts 3, 47, and 52

[FAC 2005-31; Item VI; Docket FAR-2009-0003; Sequence 2]

Federal Acquisition Regulation; Technical Amendments

AGENCIES: Department of Defense (DoD), General Services Administration (GSA), and National Aeronautics and Space Administration (NASA).

ACTION: Final rule.

SUMMARY: This document makes amendments to the Federal Acquisition Regulation in order to make editorial changes.

DATES: Effective Date: March 19, 2009.

FOR FURTHER INFORMATION CONTACT: The Regulatory Secretariat, Room 4041, GS Building, Washington, DC, 20405, (202) 501-4755, for information pertaining to status or publication schedules. Please cite FAC 2005-31, Technical Amendments.

List of Subjects in 48 CFR Parts 3, 47, and 52

Government procurement.

Dated: March 13, 2009.
Al Matera,
Director, Office of Acquisition Policy.

Therefore, DoD, GSA, and NASA amends 48 CFR parts 3, 47, and 52 as set forth below:

1. The authority citation for 48 CFR parts 3, 47, and 52 continues to read as follows:

Authority: 40 U.S.C. 121(c); 10 U.S.C. chapter 137; and 42 U.S.C. 2473(c).

PART 3—IMPROPER BUSINESS PRACTICES AND PERSONAL CONFLICTS OF INTEREST

2. Revise section 3.503-2 to read as follows:

3.503-2 Contract clause.

The contracting officer shall insert the clause at 52.203-6, Restrictions on Subcontractor Sales to the Government, in solicitations and contracts exceeding the simplified acquisition threshold. For the acquisition of commercial items, the contracting officer shall use the clause with its Alternate I.

PART 47—TRANSPORTATION

47.103-1 [Amended]

3. Amend section 47.103-1 by removing from paragraph (c) “ATTN: FBA, 1800 F Street, NW., Washington, DC 20405” and adding “Transportation Audit Division (QMCA), Crystal Plaza 4, Room 300, 2200 Crystal Drive, Arlington, VA 22202.” in its place.

PART 52—SOLICITATION PROVISIONS AND CONTRACT CLAUSES

4. Amend section 52.225-11 by revising the date in Alternate I; and revising paragraph (b)(1) of Alternate I to read as follows:

52.225-11 Buy American Act—Construction Materials under Trade Agreements.

* * * * *

Alternate I (MAR 2009). * * *

* * * * *

(b) Construction materials. (1) This clause implements the Buy American Act (41 U.S.C. 10a - 10d) by providing a preference for domestic construction material. In addition, the Contracting Officer has determined that the WTO GPA and all the Free Trade Agreements except NAFTA and the Bahrain FTA apply to this acquisition. In accordance with 41 U.S.C. 431, the component test of the Buy American Act is waived for construction material that is a COTS item (See FAR 12.505(a)(2)). Therefore, the Buy American Act restrictions are waived for designated country construction materials other than Bahrainian or Mexican construction materials.

* * * * *

[FR Doc. E9-5857 Filed 3-18-09; 8:45 am]

BILLING CODE 6820-EP-S